DEPARTMENT OF AGRICULTURE

Rural Business-Cooperative Service

Inviting Applications for Value-Added Producer Grants

AGENCY: Rural Business-Cooperative Service, USDA.

ACTION: Notice, Correction.

SUMMARY: The Rural Business-Cooperative Service published a Notice in the Federal Register on Friday, May 8, 2015 (80 FR 26528), inviting applications for the Value Added Producer Grant Program. The document contained an incorrect date for submitting paper applications, as well as an incorrect contact telephone number.

FOR FURTHER INFORMATION CONTACT: Grants Division, Cooperative Programs, Rural Business-Cooperative Service, U.S. Department of Agriculture, 1400 Independence Avenue SW., MS 3253, Room 4008—South, Washington, DC 20250-3253, or call 202-690-1374.

Correction

In the Notice [FR Doc 2015-10040], published May 8, 2015 (80 FR 26528), column 2, under FOR FURTHER INFORMATION CONTACT should read “Grants Division, Cooperative Programs, Rural Business-Cooperative Service, U.S. Department of Agriculture, 1400 Independence Avenue SW., MS 3253, Room 4208—South, Washington, DC 20250-3253, or call 202-690-1374.”

In the Notice, [FR Doc 2015-10040] published May 8, 2015 (80 FR 26530), column 3, under “4. Submission Dates and Times.” The first sentence under “Explanation of Deadlines” should read “Paper applications must be postmarked and mailed, shipped, or sent overnight by July 7, 2015.”

In the Notice, [FR Doc 2015-10040] published May 8, 2015 (80 FR 26534), column 1, under “G. Agency Contacts,” The fourth sentence should read “You may also contact National Office staff: Tracey Kennedy, VAPG Program Lead, tracey.kennedy@wdc.usda.gov, or Shantelle Gordon, shantelle.gordon@wdc.usda.gov, or call the main line at 202-690-1374.”

Dated: May 11, 2015.
Chad Parker,
Acting Administrator, Rural Business-Cooperative Service.

[FR Doc. 2015-11742 Filed 5-14-15; 8:45 am]

BILLING CODE 3410-XY-P